INTERNATIONAL TRADE COMMISSION

[Investigation No. 332-591]

Economic Impact of Section 232 and 301 Tariffs on U.S. Industries

ACTION: Notice; addition of two days for public hearing.

SUMMARY: Due to the large number of requests to appear at the Commission's public hearing in this investigation, the U.S. International Trade Commission (Commission) has added two additional days to the public hearing, July 20, 2022, and July 22, 2022. The public hearing originally was scheduled for one day, July 21, 2022. As rescheduled, it will be held on July 20-22, 2022. The Commission will post a schedule for the hearing on its website as soon as one is available at https://usitc.gov/research_and_analysis/what_we_are_working_on.htm (see Commission Investigation No. 332-591, Economic Impact of Section 232 and 301 Tariffs on U.S. Industries).

DATES:

July 6, 2022: Deadline for filing requests to appear at the public hearing.

July 8, 2022: Deadline for filing prehearing briefs and statements.

July 14, 2022: Deadline for filing electronic copies of oral hearing statements.

July 20-22, 2022: Public hearing.

August 12, 2022: Deadline for filing posthearing briefs and statements.

August 24, 2022: Deadline for filing all other written submissions.

March 15, 2023: Transmittal of Commission report to Appropriations Committees.

ADDRESSES: All Commission offices are in the U.S. International Trade Commission Building, 500 E Street SW, Washington, DC. Due to the COVID-19 pandemic, the Commission's building is currently closed to the public. Once the building reopens, persons with mobility impairments who will need special assistance in gaining access to the Commission should contact the Office of the Secretary at 202-205-2000.

FOR FURTHER INFORMATION CONTACT: Project Leader Peter Herman (Peter.Herman@usitc.gov or 202-205-3186) or Deputy Project Leader Kelsi Van Veen (Kelsi.VanVeen@usitc.gov or 202-205-3086) for information specific to this investigation. For information on the legal aspects of this investigation, contact William Gearhart of the Commission's Office of the General Counsel (William.Gearhart@usitc.gov or 202-205-3091). The media should contact Jennifer Andberg, Office of External Relations (Jennifer.Andberg@usitc.gov or 202-205-1819).

The public record for this investigation may be viewed on the Commission's electronic docket (EDIS) at https://edis.usitc.gov. General information concerning the Commission may also be obtained by accessing its website (https://www.usitc.gov). Hearing-impaired individuals may obtain information on this matter by contacting the Commission's TDD terminal at 202-205-1810.

SUPPLEMENTARY INFORMATION: The initial notice of institution of this investigation and scheduling of a public hearing was published in the Federal Register on May 10, 2022 (87 FR 28035). Except for the addition of two days for the public hearing, all other information included in that notice remains the same. Additional information about how to participate in and/or view the hearing, will be posted on the Commission's website at https://usitc.gov/research_and_analysis/what_we_are_working_on.htm. Once on that web page, scroll down to Investigation No. 332-591, Economic Impact of Section 232 and 301 Tariffs on U.S. Industries, and click on the link to “Hearing Information.” Interested parties should check the Commission's website periodically for updates.

By order of the Commission.
Issued: July 13, 2022.
William Bishop,
Supervisory Hearings and Information Officer.

[FR Doc. 2022-15323 Filed 7-18-22; 8:45 am]

BILLING CODE 7020-02-P